DEPARTMENT OF DEFENSE

Office of the Secretary

[DoD-2007-OS-0110]

Privacy Act of 1974; System of Records

AGENCY: Office of the Secretary, DoD.

ACTION: Notice to amend two systems of records.

SUMMARY: The Office of the Secretary of Defense is amending two systems of records notices in its existing inventory of record systems subject to the Privacy Act of 1974, (5 U.S.C. 552a), as amended.

DATES: This proposed action will be effective without further notice on November 1, 2007 unless comments are received which result in a contrary determination.

ADDRESSES: Send comments to the OSD Privacy Act Coordinator, Records Management Section, Washington Headquarters Services, 1155 Defense Pentagon, Washington, DC 20301-1155.

FOR FURTHER INFORMATION CONTACT: Ms. Karen Finnegan at (703) 696-3081.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: September 26, 2007.
L.M. Bynum,
Alternative OSD Federal Register Liaison Officer, Department of Defense.

S322.09 DMDC

System name:

Joint Duty Assignment Management Information System (JDAMIS) (January 8, 2007, 72 FR 737).

Changes:

System identifier:

Delete entry and replace with “DMDC 05”.

* * * * *

Routine uses of records maintained in the system, including categories of users and the purposes of such uses:

Delete entry and replace with “The DoD ‘Blanket Routine Uses’ set forth at the beginning of the OSD compilation of systems of records notices apply to this system.”

* * * * *

Notification procedure:

Delete entry and replace with “Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.”

Record access procedures:

Delete entry and replace with “Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.”

Contesting record procedures:

Delete entry and replace with “The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.”

* * * * *

DMDC 05

System name:

Joint Duty Assignment Management Information System (JDAMIS).

System location:

Defense Manpower Data Center, DoD Center Monterey Bay, 400 Gigling Road, Seaside, CA 93955-6771.

Categories of individuals covered by the system:

All active duty officers who are serving or have served in billets designated as joint duty assignment positions; are attending or have completed joint professional military education schools; are joint specialty officers or nominees.

Categories of records in the system:

The information on billets includes service, unit identification code, tour length, rank, job title, skill and critical billet. Information on individuals includes social security number, joint duty qualification, departure reason, joint professional military education status, service, occupation, gender, date of rank and duty station.

Authority for maintenance of the system:

10 U.S.C. 136, Under Secretary of Defense for Personnel and Readiness; 10 U.S.C. 667, Annual Report to Congress; and E.O. 9397 (SSN).

Purpose(s):

To allow the Department of Defense to monitor Joint Duty Assignment positions and personnel and to report to the Congress as required by Title IV, Chapter 38, Section 667 (Annual Report to Congress) of the DoD Reorganization Act of 1986; Public Law 99-433.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OSD compilation of systems of records notices apply to this system.

Policies and practices for storing, retrieving, accessing, retaining, and disposing of records in the system:

Storage:

Electronic storage media.

Retrievability:

Records may be retrieved by individual identifier such as Social Security Number (SSN) or by demographic characteristic.

Safeguards:

Computerized records are maintained in a controlled area accessible only to authorized personnel. Entry to these areas is restricted by the use of locks, guards, and administrative procedures. Access to personal information is limited to those who require the records in the performance of their official duties. Access to personal information is further restricted by the use of passwords which are changed periodically.

Retention and disposal:

Delete when 5 years old or when no longer needed for operational purposes, whichever is later.

System manager(s) and address:

Director, Defense Manpower Data Center, 1600 Wilson Boulevard, Suite 400, Arlington, VA 22209-2593.

Notification procedure:

Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.

Record access procedures:

Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.

Contesting record procedures:

The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

Record source categories:

The military services and Office of the Joint Chiefs of Staff.

Exemptions claimed for the system:

None.

S322.11 DMDC

System name:

Federal Creditor Agency Debt Collection Data Base (May 4, 2007, 72 FR 25269).

Changes:

System identifier:

Delete entry and replace with “DMDC 06”.

* * * * *

Routine uses of records maintained in the system, including categories of users and the purposes of such uses:

Delete entry and replace with “Individual's name, Social Security Number (SSN), Federal agency or military service, category of employees, Federal salary or benefit payments, record of debts and current work or home address and any other appropriate demographic data to a Federal creditor agency for the purpose of contacting the debtor to obtain voluntary repayment and, if necessary, to initiate any administrative or salary offset measures to recover the debt.

To the Office of Finance of the U.S. House of Representatives and the Disbursing Office of the U.S. Senate, records of individual indebtedness from this system of records consisting of individual name, Social Security Number and amount, to be used to identify House and Senate members and their employees indebted to the Federal government for the purpose of collecting the debts.

The DoD ‘Blanket Routine Uses’ set forth at the beginning of the OSD compilation of systems of records notices apply to this system.”

* * * * *

Notification procedure:

Delete entry and replace with “Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.''

Record access procedures:

Delete entry and replace with “Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.”

Contesting record procedures:

Delete entry and replace with “The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.”

* * * * *

DMDC 06

System name:

Federal Creditor Agency Debt Collection Data Base.

System location:

Naval Postgraduate School Computer Center, Naval Postgraduate School, Monterey, CA 93943-5000.

Categories of individuals covered by the system:

Department of Defense officers and enlisted personnel, members of reserve and guard components, retired military personnel. All Federal-wide civilian employees and retirees and postal workers covered by the civil service retirement system. Individuals identified by Federal creditor agencies as delinquent in repayment of debts owed to the U.S. Government.

Categories of records in the system:

Name, Social Security Number (SSN), debt principal amount, interest and penalty amount, if any, debt reason, debt status, demographic information such as grade or rank, sex, date of birth, duty and home address, and various dates identifying the status changes occurring in the debt collection process.

Authority for maintenance of the system:

Debt Collection Act of 1982 (Pub. L. 97-365), as amended by the Debt Collection Improvement Act of 1996 (Pub. L. 104-134); 5 U.S.C. 5514, Installment Deduction of Indebtedness; 31 U.S.C. 3711, Collection and Compromise; 31 U.S.C. 3716, Administrative Offset; 10 U.S.C. 136; 4 CFR 101.1-105.5, Federal Claims Collection Standards; 5 CFR 550.1101-1108, Collection by Offset from Indebted Government Employees; Guidelines on the Relationship Between the Privacy Act of 1974 and the Debt Collection Act of 1982, March 30, 1983 (48 FR 15556, April, 1983); the Interagency Agreement for Federal Salary Offset Initiative (Office of Management and Budget, Department of the Treasury, Office of Personnel Management and the Department of Defense, April 1987); and Office of Management and Budget Guidelines (54 FR 52818, June 19, 1989) interpreting the provisions of the Privacy Act (5 U.S.C. 552a) pertaining to computer matching; and E.O. 9397 (SSN).

Purpose(s):

To maintain a computer data base permitting computer matching in compliance with the Privacy Act of 1974 (5 U.S.C. 552a) as amended; to assist and implement debt collection efforts by Federal creditor agencies under the Debt Collection Act of 1982; to identify and locate individual debtors; to increase the efficiency of U.S. Government-wide efforts to collect debts owed the U.S. Government; to provide a centralized Federal data bank for computer matching of Federal employment records with delinquent debt records furnished by Federal creditor agencies under an Interagency agreement sponsored and monitored by the Department of the Treasury and the Office of Management and Budget; and to identify and locate employees or beneficiaries who are receiving Federal salaries or other benefit payments and indebted to the creditor agency in order to recoup the debt either through voluntary repayment or by administrative or salary offset procedures established by law.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows:

Individual's name, Social Security Number (SSN), Federal agency or military service, category of employees, Federal salary or benefit payments, record of debts and current work or home address and any other appropriate demographic data to a Federal creditor agency for the purpose of contacting the debtor to obtain voluntary repayment and, if necessary, to initiate any administrative or salary offset measures to recover the debt.

To the Office of Finance of the U.S. House of Representatives and the Disbursing Office of the U.S. Senate, records of individual indebtedness from this system of records consisting of individual name, Social Security Number and amount, to be used to identify House and Senate members and their employees indebted to the Federal government for the purpose of collecting the debts.

The DoD ‘Blanket Routine Uses' set forth at the beginning of the OSD compilation of systems of records notices apply to this system.

Policies and practices for storing, retrieving, accessing, retaining, and disposing of records in the system:

Storage:

Electronic storage media.

Retrievability:

Records are retrieved by the individual's name and Social Security Number (SSN) from a computerized index.

Safeguards:

Computerized records are maintained in a controlled area accessible only to authorized personnel. Entry to these areas is restricted by the use of locks, guards, and administrative procedures. Access to personal information is limited to those who require the records in the performance of their official duties. Access to personal information is further restricted by the use of passwords which are changed periodically.

Retention and disposal:

Records are erased within six months after each match cycle.

System manager(s) and address:

Deputy Director, Defense Manpower Data Center, DoD Center Monterey Bay, 400 Gigling Road, Seaside, CA 93955-6771.

Notification procedure:

Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.

Record access procedures:

Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.

Contesting record procedures:

The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

Record source categories:

Federal creditor agencies, the Office of Personnel Management and DoD personnel, and finance centers.

Exemptions claimed for the system:

None.

[FR Doc. E7-19430 Filed 10-1-07; 8:45 am]

BILLING CODE 5001-06-P